INTERNATIONAL TRADE COMMISSION

[Investigation Nos. 701-TA-747 and 731-TA-1725 (Final)]

Overhead Door Counterbalance Torsion Springs From India; Determinations

On the basis of the record ¹ developed in the subject investigations, the United States International Trade Commission (“Commission”) determines, pursuant to the Tariff Act of 1930 (“the Act”), that an industry in the United States is materially injured by reason of imports of overhead door counterbalance torsion springs from India, provided for in subheading 7320.20.50 of the Harmonized Tariff Schedule of the United States, that have been found by the U.S. Department of Commerce (“Commerce”) to be sold in the United States at less than fair value (“LTFV”), and imports of the subject merchandise from India that have been found to be subsidized by the government of India.2 3

¹ The record is defined in § 207.2(f) of the Commission's Rules of Practice and Procedure (19 CFR 207.2(f)).

² 90 FR 61366 and 61369 (December 31, 2025).

³ The Commission also finds that imports subject to Commerce's affirmative critical circumstances determination are not likely to undermine seriously the remedial effect of the countervailing and antidumping duty orders on overhead door counterbalance torsion springs from India.

Background

The Commission instituted these investigations effective October 29, 2024, following receipt of petitions filed with the Commission and Commerce by IDC Group, Inc., Minneapolis, Minnesota, Iowa Spring Manufacturing, Inc., Adel, Iowa, and Service Spring Corp., Maumee, Ohio. The final phase of the investigations was scheduled by the Commission following notification of preliminary determinations by Commerce that imports of overhead door counterbalance torsion springs from China and India were subsidized within the meaning of section 703(b) of the Act (19 U.S.C. 1671b(b)) and sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on June 11, 2025 (90 FR 24665), as revised on June 23, 2025 (90 FR 26608). The public hearing in connection with the investigations was cancelled.⁴

⁴ 90 FR 39420 (August 15, 2025).

The investigation schedules became staggered when Commerce postponed the final determination for its antidumping duty investigation regarding India and aligned the final determination for its countervailing duty investigation regarding India with the corresponding AD investigation, but did not postpone the final determinations in the antidumping and countervailing duty investigations regarding China. On September 30, 2025, the Commission issued final affirmative determinations in its antidumping and countervailing duty investigations of overhead door counterbalance torsion springs from China (90 FR 47820, October 2, 2025). Following notification of final determinations by Commerce that imports of overhead door counterbalance torsion springs from India were being sold at LTFV within the meaning of section 735(a) of the Act (19 U.S.C. 1673d(a)) and were being subsidized within the meaning of section 703(b) of the Act (19 U.S.C. 1671b(b)), notice of the supplemental scheduling of the final phase of the Commission's antidumping duty and countervailing duty investigations with respect to India was given by posting copies of the notice in the Office of the Secretary, U.S. International Trade Commission, Washington, DC, and by publishing the notice in the Federal Register on January 12, 2026 (91 FR 1196).

The Commission made these determinations pursuant to §§ 705(b) and 735(b) of the Act (19 U.S.C. 1671d(b) and 19 U.S.C. 1673d(b)). It completed and filed its determinations in these investigations on February 17, 2026. The views of the Commission are contained in USITC Publication 5702 (February 2026), entitled Overhead Door Counterbalance Torsion Springs from India: Investigation Nos. 701-TA-747 and 731-TA-1725 (Final).

By order of the Commission.
Issued: February 17, 2026.
Lisa Barton,
Secretary to the Commission.

[FR Doc. 2026-03325 Filed 2-19-26; 8:45 am]

BILLING CODE 7020-02-P